DEPARTMENT OF TRANSPORTATION

Federal Motor Carrier Safety Administration

[Docket No. FMCSA-2015-0149]

Withdrawal of Proposed Enhancements to the Safety Measurement System

AGENCY: Federal Motor Carrier Safety Administration (FMCSA), DOT.

ACTION: Notice.

SUMMARY: On June 29, 2015 and October 5, 2016, FMCSA proposed enhancements to the Agency's Safety Measurement System (SMS) and published a preview version of the changes. However, the Fixing America's Surface Transportation Act (FAST Act) required the National Research Council of the National Academy of Sciences (NAS) to conduct a study of FMCSA's Compliance, Safety, Accountability (CSA) program and the Safety Measurement System (SMS). NAS published their report titled, “Improving Motor Carrier Safety Measurement” on June 27, 2017. This notice announces that FMCSA will not complete the enhancements previously proposed and the preview is removed from the SMS website.

FOR FURTHER INFORMATION CONTACT: Ms. Barbara Baker, Compliance Division, Federal Motor Carrier Safety Administration, 1200 New Jersey Avenue SE, Washington, DC 20590, Telephone (202) 366-3397 or by email at Barbara.Baker@dot.gov. Office hours are from 8:00 a.m. to 5:00 p.m., ET, Monday through Friday, except Federal holidays. If you have questions regarding viewing or submitting material to the docket, contact Docket Services, telephone (202) 366-9826.

SUPPLEMENTARY INFORMATION:

Background

June 2015 Notice

On June 29, 2015 (80 FR 37037), FMCSA proposed the SMS enhancements and requested initial comments in advance of providing motor carriers with a preview of how their safety performance data would be presented on the SMS website. The proposed changes included:

1. Changing some of the SMS Intervention Thresholds to better reflect the Behavior Analysis and Safety Improvement Categories' (BASICs) correlation to crash risk.

2. Two changes to the Hazardous Materials (HM) Compliance BASIC:

a. Segmenting the HM Compliance BASIC by Cargo Tank (CT) and non-CT carriers; and

b. Releasing motor carrier percentile rankings under the HM Compliance BASIC to the public.

3. Reclassifying violations for operating while Out of Service (OOS) under the Unsafe Driving BASIC rather than the BASIC of the underlying OOS violation.

4. Increasing the maximum Vehicle Miles Traveled used in the Utilization Factor to more accurately reflect the operations of high-utilization carriers.

The Agency's analysis and explanations were provided in the June 29, 2015, notice. Stakeholders had 30 days to submit comments. The comment period ended on July 29, 2015.

October 2016 Notice

The October 5, 2016, Federal Register notice (81 FR 69185) announced a preview of proposed enhancements to the SMS website, responded to comments to the June 2015 Federal Register notice, and advised of additional enhancements.

As a result, the preview reflected six potential changes to the SMS methodology for calculating percentiles.

1. SMS Intervention Thresholds were adjusted to better reflect correlation to crash risk.

2. Changes to the HM Compliance BASIC to segment by CT and non-CT carriers and to post motor carrier percentile rankings under the HM Compliance BASIC to the public.

3. Reclassifying violations for operating while OOS under the Unsafe Driving BASIC rather than the BASIC of the underlying OOS violation.

4. Increasing the maximum vehicle miles traveled used in the Utilization Factor to more accurately reflect the operations of high-utilization carriers.

5. Increasing the minimum number of crashes in the Crash Indicator BASIC from two to three.

6. Assigning BASIC percentiles only to carriers that have had an inspection with a violation in the past year.

Only 25 comments were received on the preview from 11 individuals, five trucking or bus companies, nine associations and one safety consultant. Eight commenters posted comments regarding determining the preventability of crashes; therefore, these comments were outside of the scope of the notice. Four other commenters made broad comments about the Agency that were not applicable to this notice. In addition, the Insurance Institute of Highway Safety provided a copy of their report titled “Crash Risk Factors for Interstate Large Trucks in North Carolina” as support for the Agency's correlation of vehicle maintenance to crashes.

FAST Act Correlation Study

Section 5221 of the FAST Act, titled “Correlation Study,” required FMCSA to commission the National Research Council of the National Academies to conduct a study of FMCSA's CSA program and SMS.

On June 27, 2017, NAS published the report titled “Improving Motor Carrier Safety Measurement.” The report is available at https://www.nap.edu/catalog/24818/improving-motor-carrier-safety-measurement. In preparing the report, NAS collected and analyzed all the quantitative data available to FMCSA in its databases, which contain information on the safety of commercial motor carriers and drivers subject to the Federal Motor Carrier Safety Regulations and the HM Regulations. In addition, NAS held three public meetings to engage stakeholders from the truck and bus industry, safety advocates, researchers, and other government organizations. The meeting agendas are included in an appendix to the report. FMCSA accepted the NAS report's recommendations, including the recommendation to develop a new statistical model to support the SMS, and is working to implement the recommended changes. The NAS cautioned the Agency against making changes to the algorithm based on ad hoc analysis and instead to rely on the Item Response Theory model.

SMS Preview Site

As a result of the ongoing implementation of the NAS recommendations, FMCSA removed the preview from the SMS website and will not be proceeding with the proposed changes at this time.

Issued on: July 10, 2018.
Raymond P. Martinez,
Administrator.

[FR Doc. 2018-15109 Filed 7-13-18; 8:45 am]

BILLING CODE 4910-EX-P